GENERAL SERVICES ADMINISTRATION

[OMB Control No. 3090-0007; Docket 2015-0001; Sequence 4]

Submission to OMB; General Services Administration Acquisition Regulation; Contractor's Qualifications and Financial Information (GSA Form 527)

AGENCY: Office of Acquisition Policy, General Services Administration (GSA).

ACTION: Notice of request for comments regarding an extension to an existing OMB clearance.

SUMMARY: Under the provisions of the Paperwork Reduction Act, the Regulatory Secretariat will be submitting to the Office of Management and Budget (OMB) a request to review and approve an extension of a previously approved information collection requirement regarding Contractor's Qualifications and Financial Information (GSA Form 527). A notice published in the Federal Register at 80 FR 27309, on May 13, 2015. No comments were received.

DATES: Submit comments on or before: September 4, 2015.

FOR FURTHER INFORMATION CONTACT: Janet Fry, Program Analyst, Office of Governmentwide Policy, at 703-605-3167, or via email at janet.fry@gsa.gov.

ADDRESSES: Submit comments identified by Information Collection 3090-0007, Contractor's Qualifications and Financial Information, by any of the following methods:

• Regulations.gov: http://www.regulations.gov. Submit comments via the Federal eRulemaking portal searching Information Collection 3090-0007. Select the link “Comment Now” that corresponds with “Information Collection 3090-0007, Contractor's Qualifications and Financial Information”. Follow the instructions provided on the screen. Please include your name, company name (if any), and “Information Collection 3090-0007, Contractor's Qualifications and Financial Information” on your attached document.

• Mail: General Services Administration, Regulatory Secretariat (MVCB), 1800 F Street NW., Washington, DC 20405. ATTN: Ms. Flowers/IC 3090-0007, Contractor's Qualifications and Financial Information.

Instructions: Please submit comments only and cite Information Collection 3090-0007, Contractor's Qualifications and Financial Information, in all correspondence related to this collection. All comments received will be posted without change to http://www.regulations.gov, including any personal and/or business confidential information provided.

SUPPLEMENTARY INFORMATION:

A. Purpose

The General Services Administration will be requesting the Office of Management and Budget to extend information collection 3090-0007, concerning GSA Form 527, Contractor's Qualifications and Financial Information. This form is used to determine the financial capability of prospective contractors as to whether they meet the financial responsibility standards in accordance with the Federal Acquisition Regulation 9.103(a) and 9.104-1 and also the General Services Administration Acquisition Manual 509.105-1.

B. Annual Reporting Burden

Respondents: 2,940.

Responses Per Respondent: 1.2.

Total Responses: 3,528.

Hours per Response: 1.5.

Total Burden Hours: 5,292.

The estimated annual burden has decreased since GSA's 2012 submission from 8,820 burden hours to 5,292 burden hours to reflect the widespread use of the option for potential contractors to submit financial statements and balance sheets in lieu of completing the applicable fields on GSA Form 527. The alternate submission of financial statements and balance sheets significantly reduces the burden on prospective contractors, as these documents are generally readily available. As such, the average estimated hours to complete a response has been reduced from 2.5 hours per response to 1.5 hours.

Obtaining Copies of Proposals: Requesters may obtain a copy of the information collection documents from the General Services Administration, Regulatory Secretariat Division (MVCB), 1800 F Street NW., Washington, DC 20405, telephone 202-501-4755. Please cite OMB Control No. 3090-0007, Contractor's Qualifications and Financial Information (GSA Form 527), in all correspondence.

Public Comments: Public comments are particularly invited on: Whether this collection of information is necessary and whether it will have practical utility; whether our estimate of the public burden of this collection of information is accurate, and based on valid assumptions and methodology; ways to enhance the quality, utility, and clarity of the information to be collected.

Dated: July 30, 2015.
Jeffrey A. Koses,
Director, Office of Acquisition Policy, Office of Government-wide Policy.

[FR Doc. 2015-19223 Filed 8-4-15; 8:45 am]

BILLING CODE 6820-61-P